DEPARTMENT OF VETERANS AFFAIRS

Advisory Committee on Women Veterans; Notice of Meeting

The Department of Veterans Affairs (VA) gives notice under Public Law 92-463 (Federal Advisory Committee Act) that the Advisory Committee on Women Veterans will meet February 27-March 1, 2007, from 8:30 a.m. to 4 p.m. each day. The meeting will be held in the Board of Veterans Appeals Conference Room, (room 819), Lafayette Building, 811 Vermont Avenue, NW., Washington. The meeting is open to the public.

The purpose of the Committee is to advise the Secretary of Veterans Affairs regarding the needs of women veterans with respect to health care, rehabilitation, compensation, outreach, and other programs and activities administered by VA designed to meet such needs. The Committee will make recommendations to the Secretary regarding such programs and activities.

On February 27, the agenda will include briefings on initiatives of the Veterans Health Administration, the Veterans Benefits Administration, VA's Homeless Program and Incarcerated Veterans Re-entry Initiative; an update on activities of the Center for Women Veterans; and an overview of the Department's initiatives, budget, and current legislation affecting women veterans. On February 28, the Committee will visit Capitol Hill, receive briefing on the VHA Women Veterans Health Program, and discuss any new issues the Committee members introduce. On March 1, the Committee will receive updates and briefings on the status of VA's Fee Service Program, domestic violence, the new Psychosocial Rehabilitation and Recovery Services Program, and the Center for Minority Veterans. The Committee will discuss site selection criteria and any new issues that members introduce.

Any member of the public wishing to attend should contact Ms. Chanel Bankston-Carter, at the Department of Veterans Affairs, Center for Women Veterans (00W), 810 Vermont Avenue, NW., Washington, DC 20420. Ms. Bankston-Carter may be contacted either by phone at (202) 273-6193, fax at (202) 273-7092, or e-mail at 00W@mail.va.gov. Interested persons may attend, appear before, or file statements with the Committee. Written statements must be filed before the meeting, or within 10 days after the meeting.

Dated: January 30, 2007.
By Direction of the Secretary.
E. Philip Riggin,
Committee Management Officer.

[FR Doc. 07-492 Filed 2-2-07; 8:45 am]

BILLING CODE 8320-01-M